DEPARTMENT OF STATE

22 CFR Part 126

General Policies and Provisions

CFR Correction

In Title 22 of the Code of Federal Regulations, parts 1 to 299, revised as of Apr. 1, 2000, in part 126, beginning on page 469, the second § 126.5 is removed.

[FR Doc. 01-55502 Filed 2-27-01; 8:45 am]

BILLING CODE 1505-01-D